DEPARTMENT OF THE INTERIOR

Fish and Wildlife Service

Cedar Island National Wildlife Refuge

AGENCY: Fish and Wildlife Service, Interior.

ACTION: Notice of availability of the Final Comprehensive Conservation Plan and Finding of No Significant Impact for Cedar Island National Wildlife Refuge on Cedar Island National Wildlife Refuge in Carteret County, North Carolina.

SUMMARY: The Fish and Wildlife Service announces that a Final Comprehensive Conservation Plan and Finding of No Significant Impact for Cedar Island National Wildlife Refuge are available for distribution. The plan was prepared pursuant to the National Wildlife Refuge System Improvement Act of 1997 and in accordance with the National Environmental Policy Act of 1969. The compatibility determinations for hunting, fishing, wildlife observation, wildlife photography, environmental education and interpretation, trapping of selected furbearers, forest management, and resource research studies are also available within the plan.

ADDRESSES: A copy of the plan may be obtained by writing to: Mattamuskeet National Wildlife Refuge, 38 Mattamuskeet Road, Swan Quarter, North Carolina 27885. The plan may also be accessed and downloaded from the Service's Web site: http://southeast.fws.gov/planning/.

SUPPLEMENTARY INFORMATION: The availability of the Draft Comprehensive Conservation Plan and Environmental Assessment for a 30-day public review and comment period was announced in the Federal Register on February 14, 2006 (71 FR 7794). The draft plan and environmental assessment identified and evaluated three alternatives for managing the refuge over the next 15 years. Based on the environmental assessment and the comments received, the Service adopted alternative 2 as its preferred alternative. Alternative 2 emphasizes management of the refuge's priority wildlife species. The staff will survey waterfowl from the air on a routine basis. The refuge will continue to allow the six priority public use activities, but will have the capacity to increase the number of opportunities. The staff will conduct environmental education programs and establish an interpretive and observation trail with a brochure and a photo blind. The staff will control dominant pest plants and animals. There will be four staff members stationed at Cedar Island National Wildlife Refuge.

Cedar Island National Wildlife Refuge covers a total of 14,480 acres within a 16,887-acre acquisition boundary on Cedar Island in Pamlico Sound. The refuge is comprised of 11,000 acres of brackish marsh, 1,500 acres of longleaf pine savanna, 150 acres of brackish shrub, 125 acres of pond pine woodland, 100 acres of bay forest, 100 acres of low pocosin, and 50 acres of cypress-gum swamp. These habitats support a variety of wildlife species, including waterfowl, shorebirds, wading birds, marsh birds, and neotropical migratory songbirds.

Authority: This action is published under the authority of the National Wildlife Refuge System Improvement Act of 1997, Public Law 105-57.

Dated: June 21, 2006.
Cynthia K. Dohner,
Acting Regional Director.

[FR Doc. 06-8279 Filed 9-26-06; 8:45 am]

BILLING CODE 4310-55-M